DEPARTMENT OF HEALTH AND HUMAN SERVICES

Agency for Healthcare Research and Quality

Priority Setting for the Children's Health Insurance Program Reauthorization Act (CHIPRA) Pediatric Quality Measures Program—Notice of Correction

On pages 75469 and 75470, Volume 75, Number 232, Federal Register notice publication dated December 3, 2010, under DATES section, the correct date is: January 14, 2011. Also, on pages 75470 and 75471, under section SUPPLEMENTARY INFORMATION all Web links that include the word: “ahrg” should be changed to: “AHRQ”.

Dated: December 7, 2010.
Carolyn M. Clancy,
Director, AHRQ.

[FR Doc. C1-2010-31110 Filed 12-10-10; 8:45 am]

BILLING CODE 4160-90-M